DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Application for Appointment in the NOAA Commissioned Officer Corps.

OMB Control Number: 0648-0047.

Form Number(s): NOAA 56-42, 56-42A.

Type of Request: Regular submission (revision and extension of a current information collection).

Number of Respondents: 1,800.

Average Hours per Response: Applications, 2 hours; interviews, 5 hours; reference letters, 15 minutes.

Burden Hours: 2,475.

Needs and Uses: This request is for revision and extension of a currently approved information collection.

The NOAA Commissioned Corps is the uniformed component of the National Oceanic and Atmospheric Administration (NOAA), a bureau of the Department of Commerce. Officers serve under Presidentially-confirmed appointments (33 U.S.C. Chapter 17, Subchapter 1, Sections 853 and 854 and PL 112-166 Section 2. (gg)(1), Presidential Appointment Efficiency and Streamlining Act of 2011). The NOAA Corps provides a cadre of professionals trained in engineering, earth sciences, oceanography, meteorology, fisheries science, and other related disciplines, who are dedicated to the service of their country and optimization of NOAA's missions to ensure the economic and physical well-being of the Nation. NOAA Corps officers serve in assignments throughout NOAA, as well as in each of NOAA's Line Offices (National Environmental Satellite, Data, and Information Service, National Marine Fisheries Service, National Ocean Service, National Weather Service, Office of Oceanic and Atmospheric Research, and Office of Program, Planning, and Integration).

Persons wishing to be considered for a NOAA Corps Commission must submit a complete application package, including NOAA Form 56-42, at least three letters of recommendation, and official transcripts. A personal interview must also be conducted. Eligibility requirements include a bachelor's degree with at least 48 credit hours of science, engineering, or other disciplines related to NOAA's missions (including either calculus or physics), excellent health, normal color vision with uncorrected visual acuity no worse than 20/400 in each eye (correctable to 20/20), and ability to complete 20 years of active duty commissioned service prior to their 62nd birthday.

Affected Public: Individuals or households.

Frequency: On occasion.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: December 10, 2012.
Gwellnar Banks,
Management Analyst, Office of the Chief Information Officer.

[FR Doc. 2012-30055 Filed 12-12-12; 8:45 am]

BILLING CODE 3510-22-P